SURFACE TRANSPORTATION BOARD

[Docket No. FD 36516]

Reading Blue Mountain & Northern Railroad Company—Acquisition Exemption—Carbon County, Pa.

Reading Blue Mountain & Northern Railroad Company (RBMN), a Class III rail carrier, has filed a verified notice of exemption under 49 CFR 1150.41 to acquire from Carbon County, Pa. (the County), approximately 19.5-miles of rail line extending between milepost 19.5 near Tamenend, Schuylkill County, Pa., and milepost 0.0± at Packerton Jct., Carbon County, Pa. (the Line).¹

¹ RBMN states that the portion of the Line between milepost 18 ± at Mauch Chunk Jct. and the end of the line at milepost 19.5 has been out of service and unused for many years.

The verified notice states that RBMN entered into a Purchase and Sale Agreement with the County dated May 6, 2021, to acquire the Line. RBMN states that currently the Line is operated by C&S Railroad Corporation (C&S), which leases the Line from the County. According to RBMN, when RBMN acquires the Line, C&S's lease with the County will be terminated and RBMN will enter into a new lease with C&S to permit C&S to continue to lease and operate the Line.²

² Accordingly, this transaction is related to a concurrently filed verified notice of exemption in C&S Railroad—Lease & Operation Exemption—Reading Blue Mountain & Northern Railroad, Docket No. FD 36517, by which C&S seeks authority to lease from RBMN and operate the Line.

RBMN certifies that the acquisition does not impose or include an interchange commitment. RBMN further certifies that its projected annual revenues as a result of this transaction will not result in RBMN's becoming a Class II or Class I rail carrier but that its current annual revenues exceed $5 million. Pursuant to 49 CFR 1150.42(e), if a carrier's projected annual revenues will exceed $5 million, it must, at least 60 days before the exemption becomes effective, post a notice of its intent to undertake the proposed transaction at the workplace of the employees on the affected lines, serve a copy of the notice on the national offices of the labor unions with employees on the affected lines, and certify to the Board that it has done so. However, RBMN's verified notice includes a request for waiver of the 60-day advance labor notice requirements. RBMN's waiver request will be addressed in a separate decision. The Board will establish the effective date of the exemption in its separate decision on the waiver request.

If the verified notice contains false or misleading information, the exemption is void ab initio. Petitions to revoke the exemption under 49 U.S.C. 10502(d) may be filed at any time. The filing of a petition to revoke will not automatically stay the effectiveness of the exemption. Petitions to stay must be filed no later than June 4, 2021.

All pleadings, referring to Docket No. FD 36516, should be filed with the Surface Transportation Board via e-filing on the Board's website. In addition, a copy of each pleading must be served on RBMN's representative: Eric M. Hocky, Clark Hill PLC, Two Commerce Square, 2001 Market St., Suite 2620, Philadelphia, PA 19103.

According to RBMN, this action is categorically excluded from environmental review under 49 CFR 1105.6(c) and from historic preservation reporting requirements under 49 CFR 1105.8(b).

Board decisions and notices are available at www.stb.gov.

Decided: May 25, 2021.
By the Board, Scott M. Zimmerman, Acting Director, Office of Proceedings.
Aretha Laws-Byrum,
Clearance Clerk.

[FR Doc. 2021-11345 Filed 5-27-21; 8:45 am]

BILLING CODE 4915-01-P